DEPARTMENT OF ENERGY

National Energy Technology Laboratory; Notice of Availability of a Financial Assistance Solicitation

AGENCY: National Energy Technology Laboratory, Department of Energy (DOE).

ACTION: Notice of availability of a financial assistance solicitation.

SUMMARY: Notice is hereby given of the intent to issue Financial Assistance Solicitation No. DE-PS26-00NT41003 entitled “Infrastructure Reliability for Natural Gas.” Natural gas consumption in the U.S. is projected to reach or exceed 32 trillion cubic feet (TCF) per year by 2020, increasing from 22 TCF per year in 1997. In addition, potential lower emission targets for greenhouse gases could even increase the demand for natural gas as high as 35 TCF per year. Maintaining the integrity and efficiency of the gas infrastructure may be the most important challenge to achieving a substantial increase in gas deliverability given the age of the existing pipelines. Technological advances in materials, tools and operations will be needed to maintain the throughput of the current infrastructure and expansion for future system demands.

DATES: The solicitation will be available on the DOE/NETL's Internet address at http://www.netl.doe.gov/business on or about November 9, 2000.

FOR FURTHER INFORMATION CONTACT: Crystal A. Sharp, Contract Specialist MS IO7, U.S. Department of Energy, National Energy Technology Laboratory, P.O. Box 880, 3610 Collins Ferry Road, Morgantown, WV 26507-0880, E-mail Address: csharp@netl.doe.gov, Telephone Number: 304-285-4442.

SUPPLEMENTARY INFORMATION: The purpose of the National Gas Infrastructure Reliability program is to fund research which encourages and promotes research and development efforts resulting in the development of technology which will place the necessary tools and materials into the hands of those who maintain and enhance the integrity and operational reliability of the Nation's natural gas transmission and distribution network. DOE is requesting proposals which support technology developments in the areas of both natural gas transmission and distribution infrastructure. Specifically, proposals are requested under the following topic areas:

1. The development of technology to ensure the integrity and reliability of the design, construction and operation of the natural gas transmission infrastructure;

2. The development of technology to ensure the integrity and reliability of the design, construction and operation of the natural gas distribution infrastructure; and

3. The development of technology which may crosscut topics 1 and 2.

It is anticipated that there will be multiple awards resulting from this solicitation. DOE has determined that a minimum cost share of 35% of the total cost is required for this solicitation research. At current planning levels, and subject to the availability of funds, DOE expects to provide up to approximately $10,000,000 to support work under this solicitation.

Prospective applicants who would like to be notified as soon as the solicitation is available should register at http://www.netl.doe.gov/business. Provide your E-mail address and click on the “Oil and Gas” technology choice located under the heading “Fossil Energy.” Once you subscribe, you will receive an announcement by E-mail that the solicitation has been released to the public.

Telephone requests, written requests, E-mail requests, or facsimile requests for a copy of the solicitation package will not be accepted and/or honored. Applications must be prepared and submitted in accordance with the instructions and forms contained in the solicitation. The actual solicitation document will allow for requests for explanation and/or interpretation.

Issued in Morgantown, WV on November 2, 2000.
Randolph L. Kesling,
Director, Acquisition and Assistance Division.

[FR Doc. 00-28975 Filed 11-9-00; 8:45 am]

BILLING CODE 6450-01-P